DEPARTMENT OF THE TREASURY

United States Mint

Pricing for the American $1 Coin and Currency Set

AGENCY: United States Mint, Department of the Treasury.

ACTION: Notice.

SUMMARY: The United States Mint is announcing a price of $13.95 for the American $1 Coin and Currency Set.

FOR FURTHER INFORMATION CONTACT: Marc Landry, Acting Associate Director for Sales and Marketing; United States Mint; 801 9th Street NW., Washington, DC 20220; or call 202-354-7500.

Authority: 31 U.S.C. 5111, 5112 & 9701.

Dated: November 3, 2014.
Beverly Ortega Babers,
Chief Administrative Officer, United States Mint.

[FR Doc. 2014-26372 Filed 11-5-14; 8:45 am]

BILLING CODE 4810-37-P